ENVIRONMENTAL PROTECTION AGENCY

40 CFR Part 180

[EPA-HQ-OPP-2014-0008; FRL-9910-29]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before June 23, 2014.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Lois Rossi, Registration Division (7505P), Office of Pesticide Programs, Environmental Protection Agency, 1200 Pennsylvania Ave. NW., Washington, DC 20460-0001; telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the agency taking?

EPA is announcing its receipt of several pesticide petitions filed under section 408 of the Federal Food, Drug, and Cosmetic Act (FFDCA), (21 U.S.C. 346a), requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available online at http://www.regulations.gov.

As specified in FFDCA section 408(d)(3), (21 U.S.C. 346a(d)(3)), EPA is publishing notice of the petition so that the public has an opportunity to comment on this request for the establishment or modification of regulations for residues of pesticides in or on food commodities. Further information on the petition may be obtained through the petition summary referenced in this unit.

New Tolerance

1. PP 3E8178. (EPA-HQ-OPP-2014-0297). PHARMAQ AS, P.O. Box 267 Skoyen, N-0213 Oslo, Norway c/o Center for Regulatory Services Inc., PHARMAQ AS, 5200 Wolf Run Shoals Road, Woodbridge, VA 22192, requests to establish an import tolerance in 40 CFR part 180 for residues of the insecticide deltamethrin, [(1R, 3R)-3(2,2-dibromovinyl)-2,2-dimethylcyclopropane-carboxylic acid (S)-alpha-cyano-3-phenoxybenzyl ester] and its major metabolites trans-deltamethrin [(s)-alpha-cyano-3-phenoxybenzyl-(1R, 3S) -3-(2,2-dibromovinyl)-2,2-dimethylcyclopropanecarboxylate] and alpha-R-deltamethrin [(R)-alphacyano-3-phenoxybenzyl-(1R, 3R)-3-(2,2-dibromovinyl)-2,2-dimethylcyclopropanecarboxylate], in or on Fin fish at 0.01 parts per million (ppm). A gas chromatography-mass spectrometry (GC-MS) method for determination of deltamethrin in Fish has been submitted to the EPA.

2. PP 3E8226. (EPA-HQ-OPP-2014-0207). Cheminova A/S, 1600 Wilson Blvd., Suite 700, Arlington, VA 22209-2510, requests to establish import tolerances in 40 CFR part 180 for residues of the insecticide gamma-cyhalothrin, in or on Fruit, citrus, group 10-10 at 0.07 ppm; Citrus, dried pulp at 0.2 ppm; and Citrus, oil at 3.5 ppm. An adequate analytical method for determining lambda-cyhalothrin in plant matrices has been previously submitted and accepted by EPA. (Note: The analytical enforcement methods for lambda-cyhalothrin are applicable for determination of gamma-cyhalothrin residues.)

3. PP 3E8228. (EPA-HQ-OPP-2014-0248). Syngenta Crop Protection, LLC, P.O. Box 18300, Greensboro, NC 27419-8300, requests to establish import tolerances in 40 CFR part 180 for residues of the fungicide azoxystrobin, (methyl (E)-2-{2-[6-(2-cyanophenoxy)pyrimidin-4-yloxy]phenyl}-3-methoxyacrylate) and the Z isomer of azoxystrobin, (methyl (Z)-2-{2-[6-(2-cyanophenoxy)pyrimidin-4-yloxy]pheny1}-3-methoxyacrylate) in or on the agricultural commodities, in or on Coffee, bean, green at 0.03 ppm; Pear, Asian at 0.07 ppm; and Tea at 10 ppm. An adequate analytical method, GC with nitrogen-phosphorus detection (GC-NPD) or in mobile phase by high performance liquid chromatography with ultra-violet detection (HPLC-UV), is available for enforcement purposes with a limit of detection that allows monitoring of food with residues at or above the levels set in these tolerances. The Analytical Chemistry section of the EPA concluded that the method(s) are adequate for enforcement. Analytical methods are also available for analyzing Meat, Milk, Poultry and Eggs which also underwent successful independent laboratory validations.

4. PP 4E8239. (EPA-HQ-OPP-2014-0161). Interregional Research Project Number 4 (IR-4), 500 College Road East, Suite 201 W, Princeton, NJ 08540, requests to establish tolerances in 40 CFR part 180 for combined residues of the herbicide sethoxydim, 2-[1-(ethoxyimino)butyl]-5-[2-(ethylthio)propyl]-3-hydroxy-2-cyclohexen-1-one, and its metabolites containing the 2-cyclohexen-1-one moiety (calculated as the herbicide), in or on the following raw agricultural commodities: Berry, low growing, subgroup 13-07H, except strawberry at 2.5 ppm; Bushberry, subgroup 13-07B at 5.0 ppm; Caneberry subgroup 13-07A at 5.0 ppm; Fescue, forage at 6.0 ppm; Fescue, hay at 4.0 ppm; Fruit, citrus, group 10-10 at 0.5 ppm; Fruit, pome, group 11-10 at 0.2 ppm; Fruit, small, vine climbing, subgroup 13-07F, except fuzzy kiwifruit at 1.0 ppm; Rapeseed subgroup 20A at 35 ppm; Sunflower subgroup 20B, except safflower, seed at 7.0 ppm; Cottonseed subgroup 20C at 5.0 ppm; Vegetable, bulb, group 3-07 at 1.0 ppm; and Vegetable, fruiting, group 8-10 at 4.0 ppm. Analytical methods for detecting levels of sethoxydim and its metabolites in or on food with a limit of detection (LOD) that allows monitoring of food with residues at or above the level in these tolerances were submitted to EPA. The proposed analytical method involves extraction, partition, and clean-up. Samples are then analyzed by GC with sulfur-specific flame photometric detection. The limit of quantitation (LOQ) is 0.05 ppm.

5. PP 4E8244. (EPA-HQ-OPP-2014-0230). Interregional Research Project Number 4 (IR-4), 500 College Road East, Suite 201 W, Princeton, NJ 08540, requests to establish tolerances in 40 CFR part 180 for residues of the residues of fungicide metconazole, 5-[(4-chlorophenyl)-methyl]-2, 2-dimethyl-1-(1H-1,2,4-triazol-1-ylmethyl) cyclopentanol, measured as the sum of cis- and trans- isomers in or on the following raw agricultural commodities: Fruit, stone, group 12-12 at 0.2 ppm; Nut, tree, group 14-12 at 0.04 ppm; Pea and bean, dried shelled, except soybean, subgroup 6C at 0.15 ppm; Rapeseed subgroup 20A at 0.08 ppm; and Sunflower subgroup 20B at 0.9 ppm. Independently validated analytical methods have been submitted for analyzing parent metconazole residues with appropriate sensitivity for crops and processed commodities for which a tolerance is being requested.

6. PP 3F8164. (EPA-HQ-OPP-2013-0644). Gowan Company, P.O. Box 5569, Yuma, AZ 85366, requests to establish a tolerance in 40 CFR part 180 for residues of the fungicide, zoxamide (3, 5-dichloro-N-(3-chloro-1-ethyl-1-methyl-2-oxopropyl)-4-methylbenzamide) and its metabolites 3,5-dichloro-1,4-benzenedicarboxylic acid (RH-1455 and RH-141455) and 3,5-dichloro-4-hydroxymethylbenzoic acid (RH-1452 and RH-141452) calculated as the stoichiometric equivalent of zoxamide, in or on Onion, bulb, subgroup 3-07A at 0.7 ppm. A GC with electron capture detection (GC/ECD) and GC with mass selective detection (GC/MSD) are available for tolerance enforcement for plant commodities as primary and confirmatory methods, respectively. Adequate multiresidue methods are available for enforcement of tolerances for zoxamide only.

7. PP 3F8187. (EPA-HQ-OPP-2013-0255). BASF Corporation, 26 Davis Drive, Research Triangle Park, NC 27709, requests to establish a tolerance in 40 CFR part 180 for residues of the metrafenone, (3-bromo-6-methoxy-2-methylphenyl)(2,3,4-trimethoxy-6-methylphenyl)methanone in or on Vegetables, fruiting, group 8-10 at 1.0 ppm. The residues of parent metrafenone in/on Tomato and Pepper RAC samples were quantitated using an LC/MS/MS multi-residue QuEChERS method (BASF Study No. 398340). The method was successfully validated on Tomatoes and Peppers in conjunction with these studies prior to analysis of the field samples. Acceptable concurrent method recovery data for Tomato and Pepper RAC samples were also obtained for metrafenone. The validated limit of quantitation (LOQ) for residues of metrafenone in/on Tomato and Pepper RAC samples was 0.01 ppm. The method LOD was 0.001 ppm, or approximately 10% of the LOQ. An independent laboratory validation demonstrated good performance of the QuEChERS method.

8. PP 3F8190. (EPA-HQ-OPP-2013-0662). Bayer CropScience, 2 T.W. Alexander Drive, Research Triangle Park, NC 27709, requests to establish a tolerance in 40 CFR part 180 for residues of the fungicide, fluopyram (N-[2-[3-chloro-5-(trifluoromethyl)-2-pyridinyl]ethyl]-2-(trifluoromethyl)benzamide), in or on Soybean, seed at 0.04 ppm; Cotton, seed at 0.01 ppm; Cotton, gin by-products at 0.80 ppm; Peanut at 0.09 ppm; Grain, cereal, group 15 except rice at 0.03 ppm; Grain, cereal, forage, group 16 at 1.5 ppm; and Grain, cereal, fodder, hay, and straw, group 16, at 2.0 ppm; and for residues of fluopyram and its metabolite 2-(trifluoromethyl)benzamide, expressed in parent equivalents in or on Milk at 0.10 ppm; Beef, fat at 0.10 ppm; Beef, byproducts at 0.70 ppm; Beef, meat at 0.10 ppm; Egg at 0.15 ppm; Poultry, fat at 0.10 ppm; Poultry, meat at 0.10 ppm; Poultry, meat byproducts at 0.20 ppm; Hog, fat at 0.05 ppm; Hog meat at 0.10 ppm; and Hog, meat byproducts at 0.70 ppm. Fluopyram is the residue of concern for enforcement in plant commodities required for analysis based on the metabolic profile. In animal commodities, the residue of concern is fluopyram and fluopyram-benzamide. The analytical methods involve solvent extraction, filtration and addition of an isotopically labeled internal standards followed by solid phase extraction. Quantitation is by LC-MS/MS.

9. PP 3F8220. (EPA-HQ-OPP-2014-0114). E.I. du Pont de Nemours & Company (“DuPont”), 1007 Market Street, Wilmington, DE 19898, requests to establish tolerances in 40 CFR part 180 for residues of the fungicide oxathiapiprolin, 1-(4-{4-[(5RS)-5-(2,6-difluorophenyl)-4,5-dihydro-1,2-oxazol-3-yl]-1,3-thiazol-2-yl}-1-piperidyl)-2-[5-methyl-3-(trifluoromethyl)-1H-pyrazol-1-yl] ethanone, in or on the following commodities: Grapes (import tolerance) at 0.9 ppm; Vegetable, root and tuber vegetables, tuberous and corm vegetables (crop subgroup 1C) at 0.01 ppm; Bulb vegetables, onion, bulb (crop subgroup 3-07A) at 0.04 ppm; Bulb vegetables, onion, green (crop subgroup 3-07B) at 2 ppm; Fruiting vegetables (crop group 8-10) at 0.2 ppm; Cucurbit vegetables (crop group 9) at 0.2 ppm; Brassica (cole) leafy vegetables, head and stem Brassica (crop subgroup 5A) at 1.5 ppm; Leafy vegetables (except Brassica vegetables), Leafy greens (crop subgroup 4A) at 15 ppm; Peas, edible podded at 1 ppm; Peas, succulent, shelled at 0.05 ppm; and Ginseng root at 0.4 ppm. Adequate analytical methodology, HPLC-MS/MS detection, is available for enforcement purposes.

10. PP 3F8227. (EPA-HQ-OPP-2014-0153). ISK Biosciences Corporation, 7470 Auburn Road, Suite A, Concord, Ohio 44077, requests to establish tolerances in 40 CFR part 180 for residues of the fungicide pyriofenone, (5-chloro-2-methoxy-4-methyl-3-pyridinyl)(2,3,4-trimethoxy-6-methylphenyl)methanone, including its metabolites and degradates, in or on Cucurbit Vegetables, (Crop Group 9) at 0.3 ppm; and Berry and Small Fruit (Crop Group 13-07), except Large shrub/tree berry subgroup 13-07C at 0.9 ppm. A practical analytical method for pyriofenone using liquid chromatography-mass spectrometry/MS (LC/MS/MS) is available for analysis of grapes. This method has been confirmed through independent laboratory validation and is available for enforcement purposes.

Amended Tolerance

1. PP 4E8239. (EPA-HQ-OPP-2014-0161). Interregional Research Project Number 4 (IR-4), 500 College Road East, Suite 201 W, Princeton, NJ 08540, requests to remove the existing tolerances in 40 CFR 180.412 for combined residues of the herbicide sethoxydim, 2-[1-(ethoxyimino)butyl]-5-[2-(ethylthio)propyl]-3-hydroxy-2-cyclohexen-1-one, and its metabolites containing the 2-cyclohexen-1-one moiety (calculated as the herbicide), in or on the following commodities are removed, including: Blueberry at 4.0 ppm; Borage, seed at 6.0 ppm; Caneberry subgroup 13A at 5.0 ppm; Canola, seed at 35.0 ppm; Cotton, undelinted seed at 5.0 ppm; Crambe, seed at 35.0 ppm; Cranberry at 2.5 ppm; Cuphea, seed at 35.0 ppm; Echium, seed at 35.0 ppm; Flax, seed at 5.0 ppm; Fruit, citrus, group 10 at 0.5 ppm; Fruit, pome, group 11 at 0.2 ppm; Gold of pleasure, seed at 35.0 ppm; Grape at 1.0 ppm; Hare's ear mustard, seed at 35.0 ppm; Juneberry at 5.0 ppm; Lesquerella, seed at 35.0 ppm; Lingonberry at 5.0 ppm; Lunaria, seed at 35.0 ppm; Meadowfoam, seed at 35.0 ppm; Milkweed, seed at 35.0 ppm; Mustard, seed at 35.0 ppm; Oil radish, seed at 35.0 ppm; Poppy, seed at 35.0 ppm; Rapeseed, seed at 35.0 ppm; Salal at 5.0 ppm; Sesame, seed at 35.0 ppm; Sunflower, seed at 7.0 ppm; Sweet rocket, seed at 35.0 ppm; Vegetable, bulb, group 3 at 1.0 ppm; and Vegetable, fruiting, group 8 at 4.0 ppm, upon establishment of the proposed tolerances listed in 4. under “New Tolerance”.

2. PP 4E8244. (EPA-HQ-OPP-2014-0230). Interregional Research Project Number 4 (IR-4), 500 College Road East, Suite 201 W, Princeton, NJ 08540, proposing, pursuant to section 408(d) of the Federal Food, Drug, and Cosmetic Act (FFDCA), 21 U.S.C. 346a(d), to amend 40 CFR 180.617 by removing tolerances for residues of the fungicide metconazole, 5-[(4-chlorophenyl)-methyl]-2, 2-dimethyl-1-(1H-1,2,4-triazol-1-ylmethyl) cyclopentanol, measured as the sum of cis- and trans- isomers in or on the following raw agricultural commodities: Canola seed at 0.04 ppm; Fruit, stone, group 12 at 0.2 ppm; Pistachio at 0.04 ppm; and Nut, Tree, Group 14 at 0.04 ppm. Upon establishment of the proposed tolerances listed in 5. under “New Tolerance”, these previously established tolerances will be superseded by inclusion in crop group or subgroup tolerances established by this action.

3. PP 3F8191. (EPA-HQ-OPP-2014-0225). Valent USA Corporation, 1101 14th Street, NW., Suite 1050, Washington, DC 20005, requests to amend the tolerances in 40 CFR 180.627 for residues of the fungicide fluopicolide, [2,6-dichloro-N-[[3-chloro-5-(trifluoromethyl)-2-pyridinyl]methyl]benzamide], including its metabolites and degradates, in or on Vegetable, tuberous and corm subgroup 1C from 0.02 ppm to 0.3 ppm; and Potato, processed waste from 0.05 ppm to 0.3 ppm. Compliance with the tolerance levels specified below is to be determined by measuring only fluopicolide [2,6-dichloro-N-[[3-chloro-5-(trifluoromethyl)-2-pyridinyl]methyl]benzamide] in or on the commodity. The Valent method RM-43C-1 by LC/MS/MS is used to measure and evaluate the chemical fluopicolide.

4. PP 3F8214. (EPA-HQ-OPP-2014-0210). FMC Corporation, 1735 Market Street, Philadelphia, PA 19103, requests to amend the tolerances in 40 CFR 180.418 for the residues of the insecticide zeta-cypermethrin, in or on Alfalfa, forage from 5.0 ppm to 15.0 ppm; and Alfalfa, hay from 15.0 ppm to 30.0 ppm. There is a practical analytical method (gas chromatography with Electron Capture Detection) (GC/ECD) for detecting and measuring levels of cypermethrin and zeta-cypermethrin in or on food with a limit of detection (LOD) that allows monitoring of food with residues at or above the levels set in these tolerances.

List of Subjects in 40 CFR Part 180

Environmental protection, Agricultural commodities, Feed additives, Food additives, Pesticides and pests, Reporting and recordkeeping requirements.

Dated: May 15, 2014.
Daniel J. Rosenblatt,
Acting Director, Registration Division, Office of Pesticide Programs.

[FR Doc. 2014-11904 Filed 5-22-14; 8:45 am]

BILLING CODE 6560-50-P